DEPARTMENT OF ENERGY

Federal Energy Regulatory Commission

Combined Notice of Filings #1

Take notice that the Commission received the following electric rate filings:

Docket Numbers: ER11-4051-001.

Applicants: CSOLAR IV South, LLC.

Description: CSOLAR IV South, LLC submits tariff filing per 35.17(b): Amendment to Application for Market-Based Rate Authorization to be effective 9/11/2011.

Filed Date: 08/30/2011.

Accession Number: 20110830-5063.

Comment Date: 5 p.m. Eastern Time on Friday, September 09, 2011.

Docket Numbers: ER11-4200-000.

Applicants: TC Ravenswood, LLC.

Description: AMENDMENT TO MOTION OF TC RAVENSWOOD, LLC.

Filed Date: 08/26/2011.

Accession Number: 20110826-5052.

Comment Date: 5 p.m. Eastern Time on Friday, September 16, 2011.

Docket Numbers: ER11-4200-000.

Applicants: TC Ravenswood, LLC.

Description: AMENDMENT NO. 2 TO MOTION OF TC RAVENSWOOD, LLC.

Filed Date: 08/26/2011.

Accession Number: 20110826-5053.

Comment Date: 5 p.m. Eastern Time on Friday, September 16, 2011.

Docket Numbers: ER11-4394-000.

Applicants: Snowflake White Mountain Power, LLC.

Description: Snowflake White Mountain Power, LLC submits notice of cancellation of its market based rate tariff and tariff ID.

Filed Date: 08/29/2011.

Accession Number: 20110830-0201.

Comment Date: 5 p.m. Eastern Time on Monday, September 19, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2011.
Nathaniel J. Davis, Sr.,
Deputy Secretary.

[FR Doc. 2011-22811 Filed 9-6-11; 8:45 am]

BILLING CODE 6717-01-P